DEPARTMENT OF TRANSPORTATION

Federal Aviation Administration

Revised Noise Compatibility Program Notice, Austin-Bergstrom International Airport, Texas; Austin, TX

AGENCY: Federal Aviation Administration, DOT.

ACTION: Notice.

SUMMARY: The Federal Aviation Administration (FAA) announces its findings on the revision to the Noise Compatibility Program (NCP) submitted by the city of Austin, Texas, under the provisions of 49 U.S.C. (the Aviation Safety and Noise Abatement Act, hereinafter referred to as “the Act”) and 14 CFR part 150. These findings are made in recognition of the description of Federal and non-Federal responsibilities in Senate Report No. 96-52 (1980). The revised NCP was submitted subsequent to a determination by the FAA that associated Noise Exposure Maps (NEM) submitted under 14 CFR part 150 for Austin-Bergstrom International Airport were in compliance with applicable requirements effective April 29, 2000. On February 11, 2004, the FAA approved the Austin-Bergstrom International Airport revised NCP. All of the revised recommendations of the program were approved.

EFFECTIVE DATE: The effective date of the FAA's approval of the Austin-Bergstrom International Airport revised NCP is February 11, 2004.

FOR FURTHER INFORMATION CONTACT: Mr. Paul E. Blackford, Department of Transportation, Federal Aviation Administration, 2601 Meacham Blvd., Forth Worth, TX 76137-4298, (817) 222-5607. Documents reflecting this FAA action may be reviewed at this same location.

SUPPLEMENTARY INFORMATION: This notice announces that the FAA has given its overall approval to the revised NCP for the city of Austin, Austin-Bergstrom International Airport effective February 11, 2004.

Under section 47504 of the Act, an airport operator who has previously submitted a NEM may submit to the FAA a NCP which sets forth the measures taken or proposed by the airport operator for the reduction of existing non-compatible land uses and prevention of additional non-compatible land uses within the area covered by the NEM. The Act requires such programs to be developed in consultation with interested and affected parties including local communities, government agencies, airport users, and FAA personnel.

Each airport NCP developed in accordance with Federal Aviation Regulations (FAR) part 150 is a local program, not a Federal program. The FAA does not substitute its judgment for that of the airport proprietor with respect to which measures should be recommended for action. The FAA's approval or disapproval of FAR part 150 program recommendations is measured according to the standards expressed in part 150 and the Act and is limited to the following determinations:

a. The NCP was developed in accordance with the provisions and procedures of FAR part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal government; and

d. Program measures relating to the use of flight procedures can be implemented within the period covered by the program without derogating safety, adversely affecting the efficient use and management of the navigable airspace and air traffic control systems, or adversely affecting other powers and responsibilities of the Administrator prescribed by law.

Specific limitations with respect to the FAA's approval of an airport NCP are delineated in FAR part 150, section 150.5. Approval is not a determination concerning the acceptability of land uses under Federal, state, or local law. Approval does not by itself constitute an FAA implementing action. A request for Federal action or approval to implement specific noise compatibility measures may be required, and a FAA decision on the request may require an environmental assessment of the proposed action. Approval does not constitute a commitment by the FAA to financially assist in the implementation of the program nor a determination that all measures covered by the program are eligible for grant-in-aid funding from the FAA. Where Federal funding is sought, requests for project grants must be submitted to the FAA regional office in Fort Worth, Texas.

The FAA has determined the NEM, previously submitted for the Austin-Bergstrom International Airport, and approved by the FAA on May 8, 2000, continue to represent the present noise environment and an update to the NEM is not required.

On November 7, 2000, the FAA approved the Austin-Bergstrom International Airport NCP. The program was comprised of five measures designed for phased implementation by airport management and adjacent jurisdictions.

The city of Austin submitted a revised NCP to the FAA and requested the FAA evaluate and approve this material as a revision to the existing NCP as described in section 47504 of the Act. The FAA began its review of the program on August 15, 2003, and was required by a provision of the Act to approve or disapprove the program within 180 days (other than the use of new or modified flight procedures for noise control). Failure to approve or disapprove such program within the 180-day period shall be deemed to be an approval of such program.

Outright approval was granted for two proposed action elements in the revised NCP where the city of Austin requested Federal approval. Approved action items include land mitigation measures consisting of a land acquisition program and a sound insulation program.

These determinations are set forth in a Record of Approval signed by the Associate Administrator for Airports on February 11, 2004. The Record of Approval, as well as other evaluation materials and the documents comprising the submittal, are available for review at the FAA office listed above and at the administrative offices of the administrative offices of: City of Austin, Department of Aviation, Austin-Bergstrom International Airport, 3600 Presidential Boulevard, Austin, Texas 78719.

Issued in Fort Worth, Texas, February 19, 2004.
Joseph G. Washington,
Acting Manager, Airports Division.

[FR Doc. 04-5042 Filed 3-4-04; 8:45 am]

BILLING CODE 4910-13-M